ENVIRONMENTAL PROTECTION AGENCY

[FRL-9254-5]

Science Advisory Board Staff Office; Notification of a Public Teleconference of the Science Advisory Board Nutrient Criteria Review Panel

AGENCY: Environmental Protection Agency (EPA).

ACTION: Notice.

SUMMARY: The EPA Science Advisory Board (SAB) Staff Office announces a public teleconference of the SAB Nutrient Criteria Review Panel. The Panel will discuss its draft report reviewing EPA's technical support document on development of numeric nutrient criteria for Florida's estuarine and coastal waters, and southern canals.

DATES: The public teleconference will be held on Monday, February 7, 2011, from 2 p.m. to 5 p.m. (Eastern Time).

ADDRESSES: The public teleconference will be conducted by telephone only.

FOR FURTHER INFORMATION CONTACT: Members of the public who wish to obtain further information about this meeting may contact Ms. Stephanie Sanzone, Designated Federal Officer (DFO), EPA Science Advisory Board Staff Office (1400R),

U.S. Environmental Protection Agency, 1200 Pennsylvania Avenue, NW., Washington, DC 20460; by telephone/voice mail: (202) 564-2067 or via e-mail at sanzone.stephanie@epa.gov. General information about the SAB is available on the SAB Web site at http://www.epa.gov/sab.

SUPPLEMENTARY INFORMATION: Pursuant to the Federal Advisory Committee Act (FACA), 5 U.S.C., App. 2, notice is hereby given that the SAB Nutrient Criteria Review Panel will hold a public teleconference to discuss its draft review report on the EPA draft technical support document (TSD), Methods and Approaches for Deriving Numeric Criteria for Nitrogen/Phosphorus Pollution in Florida's Estuaries, Coastal Waters, and Southern Inland Flowing Waters. The draft TSD describes methods and approaches for developing numeric nutrient criteria for Florida's estuarine and coastal waters, downstream protection values in streams to protect those waters, and criteria for flowing waters in the south Florida region (including canals). The Nutrient Criteria Review Panel met on December 13-14, 2010 (75 FR 66759) to receive technical briefings from the Agency, hear public comments, and deliberate on responses to the charge questions posed by the Agency. The purpose of the February 7 teleconference is for the Panel to discuss its draft report on the review of EPA's draft TSD. Background on this advisory activity is available on the SAB Web site at http://yosemite.epa.gov/sab/sabproduct.nsf/fedrgstr_activities/FL%20Estuaries%20TSD?OpenDocument.

The SAB was established pursuant to 42 U.S.C. 4365 to provide independent scientific and technical advice to the Administrator on the technical basis for Agency positions and regulations. The SAB is a Federal Advisory Committee chartered under FACA. The SAB Nutrient Criteria Review Panel will provide advice through the chartered SAB. The SAB Panel will comply with the provisions of FACA and all appropriate SAB Staff Office procedural policies.

Availability of Meeting Materials: The EPA draft technical support document is available on the SAB Web site at http://yosemite.epa.gov/sab/sabproduct.nsf/fedrgstr_activities/FL%20Estuaries%20TSD?OpenDocument. The EPA Office of Water technical contact for the draft TSD is Elizabeth Behl, at (202) 566-0788, or via e-mail at behl.betsy@epa.gov. The draft Panel advisory report and the meeting agenda for the February teleconference will be posted on the SAB Web site at http://www.epa.gov/sab in advance of the meeting.

Procedures for Providing Public Input: Public comment for consideration by EPA's Federal advisory committees and panels have a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. They should send their comments directly to the Designated Federal Officer for the relevant advisory committee. Interested members of the public may submit written or oral information for the Panel to consider on the topics of this review. Oral Statements: In general, individuals or groups requesting an oral presentation at a public teleconference will be limited to three (3) minutes per speaker. Interested parties should contact Ms. Sanzone at the contact information provided above by February 1, 2011, to be placed on the public speaker list for the February 7, 2011 teleconference. Written Statements: Written statements should be received in the SAB Staff Office by February 1, 2011, so that the information can be made available to the Panel for their consideration prior to the meeting. Written statements should be supplied to the DFO via e-mail to sanzone.stephanie@epa.gov (acceptable file formats: Adobe Acrobat PDF, WordPerfect, MS Word, MS PowerPoint, or Rich Text files in IBM-PC format). Submitters are asked to provide versions of each document submitted with and without signatures, because the SAB Staff Office does not publish documents with signatures on its Web sites.

Accessibility: For information on access or services for individuals with disabilities, please contact Ms. Sanzone at (202) 564-2067, or via e-mail at sanzone.stephanie@epa.gov, preferably at least ten (10) days prior to the meeting, to give EPA as much time as possible to process your request.

Dated: December 11, 2011.
Anthony F. Maciorowski,
Deputy Director, EPA Science Advisory Board Staff Office.

[FR Doc. 2011-1014 Filed 1-18-11; 8:45 am]

BILLING CODE 6560-50-P